NUCLEAR REGULATORY COMMISSION

[NRC-2015-0159]

Changes to Buried and Underground Piping and Tank Recommendations

AGENCY: Nuclear Regulatory Commission.

ACTION: Draft license renewal interim staff guidance; request for comment.

SUMMARY: The U.S. Nuclear Regulatory Commission (NRC) requests public comment on the draft License Renewal Interim Staff Guidance (LR-ISG), LR-ISG-2015-01, “Changes to Buried and Underground Piping and Tank Recommendations.” The draft LR-ISG would replace aging management program (AMP) XI.M41, “Buried and Underground Piping and Tanks,” and its associated Updated Final Safety Analysis Report (UFSAR) Summary Description in LR-ISG-2011-03, “Changes to the Generic Aging Lessons Learned (GALL) Report Revision 2 Aging Management Program (AMP) XI.M41, `Buried and Underground Piping and Tanks'.” These changes address new recommendations related to buried and underground piping and tanks within the scope of the NRC's regulations for the renewal of operating licenses for nuclear power plants.

DATES: Submit comments by August 13, 2015. Comments received after this date will be considered, if it is practical to do so, but the NRC staff is able to ensure consideration only for comments received on or before this date.

ADDRESSES: You may submit comment by any of the following methods (unless this document describes a different method for submitting comments on a specific subject):

• Federal Rulemaking Web site: Go to http://www.regulations.gov and search for Docket ID NRC-2015-0159. Address questions about NRC dockets to Carol Gallagher; telephone: 301-415-3463; email: Carol.Gallagher@nrc.gov. For technical questions, contact the individual(s) listed in the FOR FURTHER INFORMATION CONTACT section of this document.

• Mail comments to: Cindy Bladey, Office of Administration, Mail Stop: O12-H08, U.S. Nuclear Regulatory Commission, Washington, DC 20555-0001.

For additional direction on accessing information and submitting comments, see “Obtaining Information and Submitting Comments” in the SUPPLEMENTARY INFORMATION section of this document.

FOR FURTHER INFORMATION CONTACT: William Holston, telephone: 301-415-8573, email: William.Holston@nrc.gov; and Catherine Nolan, telephone: 301-415-1535, email: Catherine.Nolan@nrc.gov, both are staff of the Office of Nuclear Reactor Regulation, U.S. Nuclear Regulatory Commission, Washington, DC 20555-0001.

SUPPLEMENTARY INFORMATION:

I. Obtaining Information and Submitting Comments

A. Obtaining Information

Please refer to Docket ID NRC-2015-0159 when contacting the NRC about the availability of information regarding this document. You may obtain publicly-available information related to this action by the following methods:

• Federal Rulemaking Web site: Go to http://www.regulations.gov and search for Docket ID NRC-2015-0159.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The draft LR-ISG-2015-01 is available electronically under ADAMS Accession No. ML1525A377. The Generic Aging Lessons Learned (GALL) Report, NUREG-1801 Rev. 2 (Dec. 2010) (GALL Report), and the Standard Review Plan for Review of License Renewal Applications for Nuclear Power Plants (SRP-LR), NUREG-1800 Rev. 2 (Dec. 2010), are available under ADAMS Accession Nos. ML103490041 and ML103490036, respectively.

• NRC's PDR: You may examine and purchase copies of public documents at the NRC's PDR, Room O1-F21, One White Flint North, 11555 Rockville Pike, Rockville, Maryland 20852.

B. Submitting Comments

Please include Docket ID NRC-2015-0159 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The draft LR-ISG would replace AMP XI.M41, “Buried and Underground Piping and Tanks,” and its associated UFSAR Summary Description in LR-ISG-2011-03. These proposed changes to AMP XI.M41 address new recommendations related to buried and underground piping and tanks within the scope of part 54 of Title 10 of the Code of Federal Regulations (10 CFR), “Requirements for Renewal of Operating Licenses for Nuclear Power Plants.”

The NRC issues LR-ISGs to communicate insights and lessons learned and to address emergent issues not covered in license renewal guidance documents, such as the GALL Report and SRP-LR. In this way, the NRC staff and stakeholders may use the guidance in an LR-ISG document before it is incorporated into a formal license renewal guidance document revision. The NRC staff issues LR-ISGs in accordance with the LR-ISG Process, Revision 2 (ADAMS Accession No. ML100920158), for which a notice of availability was published in the Federal Register on June 22, 2010 (75 FR 35510).

III. Proposed Action

By this action, the NRC is requesting public comments on draft LR-ISG-2015-01. This LR-ISG proposes certain revisions to NRC guidance on implementation of the requirements in 10 CFR part 54. The NRC staff will make a final determination regarding issuance of the LR-ISG after it considers any public comments received in response to this request.

IV. Backfitting and Issue Finality

Issuance of this LR-ISG in final form would not constitute backfitting as defined in 10 CFR 50.109 (the Backfit Rule) and would not otherwise be inconsistent with the issue finality provisions in 10 CFR part 52, “Licenses, Certifications, and Approvals for Nuclear Power Plants.” As discussed in the “Backfitting and Issue Finality” section of draft LR-ISG-2015-01, the LR-ISG is directed to holders of operating licenses or combined licenses who are currently in the license renewal process. The LR-ISG is not directed to holders of operating licenses or combined licenses until they apply for license renewal. The LR-ISG is also not directed to licensees who already hold renewed operating or combined licenses. However, the NRC could also use the LR-ISG in evaluating voluntary, licensee-initiated changes to previously-approved aging management programs.

Dated at Rockville, Maryland, this 23rd day of June, 2015.
For the Nuclear Regulatory Commission.
Jane E. Marshall,
Deputy Director, Division of License Renewal, Office of Nuclear Reactor Regulation.

[FR Doc. 2015-15919 Filed 6-26-15; 8:45 am]

BILLING CODE 7590-01-P